COMMISSION ON CIVIL RIGHTS

Notice of Public Meeting of the South Dakota Advisory Committee to the U.S. Commission on Civil Rights

AGENCY: U.S. Commission on Civil Rights.

ACTION: Announcement of public meeting.

SUMMARY: Notice is hereby given, pursuant to the provisions of the rules and regulations of the U.S. Commission on Civil Rights (Commission), and the Federal Advisory Committee Act (FACA), that the South Dakota State Advisory Committee to the Commission will convene a business meeting on Monday, March 27, 2023, at 1:00 p.m. Central Time. The purpose of the business meeting is to discuss the draft report for the Committee's topic on voting rights and voter access.

DATES: Monday, March 27, 2023, at 1:00 p.m. Central Time.

ADDRESSES: Meetings will be held via Zoom.

Meeting Link (Audio/Visual): https://tinyurl.com/mrxtjs96; password, if needed: USCCR-SD.

Join Phone (Audio Only): 1-551-285-1373; Meeting ID: 160 139 2841#.

FOR FURTHER INFORMATION CONTACT: Email Mallory Trachtenberg, Designated Federal Officer, at mtrachtenberg@usccr.gov or 202-809-9618.

SUPPLEMENTARY INFORMATION: The meetings are available to the public through the web link above. If joining only via phone, callers can expect to incur charges for calls they initiate over wireless lines, and the Commission will not refund any incurred charges. Individuals who are deaf, deafblind and hard of hearing may also follow the proceedings by first calling the Federal Relay Service at 1-800-877-8339 and providing the Service with conference details found through registering at the web link above. To request other accommodations, please email mtrachtenberg@usccr.gov at least 10 business days prior to the meeting for which accommodations are requested.

Members of the public are entitled to make comments during the open period at the end of each meeting. Members of the public may also submit written comments; the comments must be received in the Regional Programs Unit within 30 days following each meeting. Written comments may be emailed to Mallory Trachtenberg at mtrachtenberg@usccr.gov. Persons who desire additional information may contact the Regional Programs Unit at (202) 809-9618. Records and documents discussed during meetings will be available for public viewing as they become available at www.facadatabase.gov. Persons interested in the work of this advisory committee are advised to go to the Commission's website, www.usccr.gov, or to contact the Regional Programs Unit at the above phone number or email address.

Agenda

I. Meeting Announcement and Roll Call

II. Welcome

III. Discussion on Draft Report: Voting Rights and Voter Access

IV. Public Comment

V. Adjournment

Dated: February 24, 2023.
David Mussatt,
Supervisory Chief, Regional Programs Unit.

[FR Doc. 2023-04243 Filed 3-1-23; 8:45 am]

BILLING CODE P